DEPARTMENT OF HOMELAND SECURITY

U.S. Customs and Border Protection

[Docket No. USCBP-2023-0021]

Commercial Customs Operations Advisory Committee (COAC)

AGENCY: U.S. Customs and Border Protection (CBP), Department of Homeland Security (DHS).

ACTION: Committee Management; Notice of Federal Advisory Committee Meeting.

SUMMARY: U.S. Customs and Border Protection (CBP) is revising the notice published in the Federal Register on August 30, 2023, which announced that the next meeting of the Commercial Customs Operations Advisory Committee (COAC) will be held on Wednesday, September 20, 2023. This notice revises the August 30, 2023 notice to reflect the addition of a new working group to the Secure Trade Lanes Subcommittee which will provide proposed recommendations for COAC's consideration at the September 20, 2023 COAC Public Meeting. As a result, CBP is republishing the August 30, 2023 notice, with amendments reflecting the addition of the De Minimis Working Group. The meeting will be open to the public via webinar only. There is no on-site, in-person option for the public to attend this quarterly meeting.

DATES: The COAC will meet on Wednesday, September 20, 2023, from 1 to 5 p.m. EDT. Please note that the meeting may close early if the committee has completed its business. Comments must be submitted in writing no later than September 15, 2023.

ADDRESSES: The meeting will be open to the public via webinar only. The webinar link and conference number will be posted by 5 p.m. EDT on September 19, 2023, at https://www.cbp.gov/trade/stakeholder-engagement/coac/coac-public-meetings. For information or to request special assistance for the meeting, contact Ms. Latoria Martin, Office of Trade Relations, U.S. Customs and Border Protection, at (202) 344-1440 as soon as possible.

Comments may be submitted by one of the following methods:

• Federal eRulemaking Portal: https://www.regulations.gov. Search for Docket Number USCBP-2023-0021. To submit a comment, click the “Comment” button located on the top left-hand side of the docket page.

• Email: tradeevents@cbp.dhs.gov. Include Docket Number USCBP-2023-0021 in the subject line of the message.

Comments must be submitted in writing no later than September 15, 2023, and must be identified by Docket No. USCBP-2023-0021. All submissions received must also include the words “Department of Homeland Security.” All comments received will be posted without change to https://www.cbp.gov/trade/stakeholder-engagement/coac/coac-public-meetings and www.regulations.gov. Therefore, please refrain from including any personal information you do not wish to be posted. You may wish to view the Privacy and Security Notice, which is available via a link on www.regulations.gov.

FOR FURTHER INFORMATION CONTACT: Ms. Latoria Martin, Office of Trade Relations, U.S. Customs and Border Protection, 1300 Pennsylvania Avenue NW, Room 3.5A, Washington, DC 20229, (202) 344-1440; or Ms. Felicia M. Pullam, Designated Federal Officer, at (202) 344-1440 or via email at tradeevents@cbp.dhs.gov.

SUPPLEMENTARY INFORMATION: On August 30, 2023, U.S. Customs and Border Protection (CBP) published a notice in the Federal Register (88 FR 59933), announcing that the Commercial Customs Operations Advisory Committee (COAC) meeting will be held on Wednesday, September 20, 2023. The August 30, 2023 notice complied with the 15-calendar-day requirement to provide the public with notice of the agenda and topics to be discussed. See section 102-3.150(a) of title 41 of the Code of Federal Regulations (41 CFR 102-3.150(a)). This notice amends the agenda published in the August 30, 2023 notice, to note the addition of a new working group, the De Minimis Working Group, to the Secure Trade Lanes Subcommittee. This notice is published less than 15 calendar days before COAC's public meeting. Pursuant to 41 CFR 102-3.150(b), CBP believes that there are exceptional circumstances warranting less-than-15-days' notice. Due to the recent creation of the De Minimis Working Group it was not clear its work would be developed sufficiently to present it at the public meeting. However, CBP has been informed that the subcommittee will have additional proposed recommendations to offer to COAC at the public meeting based on the work from the new working group. Because CBP considers the working group's activity to be of significant interest to the public and the government, CBP does not want to delay COAC's ability to deliberate publicly upon the additional proposed recommendations.

For ease of reference, CBP is republishing the entirety of the August 30, 2023 notice, with the changes described.

Notice of this meeting is given under the authority of the Federal Advisory Committee Act, Title 5 U.S.C. ch. 10. The Commercial Customs Operations Advisory Committee (COAC) provides advice to the Secretary of the Department of Homeland Security, the Secretary of the Department of the Treasury, and the Commissioner of U.S. Customs and Border Protection (CBP) on matters pertaining to the commercial operations of CBP and related functions within the Department of Homeland Security and the Department of the Treasury.

The COAC is committed to ensuring that all participants have equal access regardless of disability status. If you require a reasonable accommodation due to a disability to fully participate, please contact Ms. Latoria Martin at (202) 344-1440 as soon as possible.

Please feel free to share this information with other interested members of your organization or association.

To facilitate public participation, we are inviting public comment on the issues the committee will consider prior to the formulation of recommendations as listed in the Agenda section below.

There will be multiple public comment periods held during the meeting on September 20, 2023. Speakers are requested to limit their comments to two minutes or less to facilitate greater participation. Please note that the public comment period for speakers may end before the time indicated on the schedule that is posted on the CBP web page: https://www.cbp.gov/trade/stakeholder-engagement/coac.

Agenda

The COAC will hear from the current subcommittees on the topics listed below:

1. The Intelligent Enforcement Subcommittee will provide updates on the work completed and topics discussed in its working groups. The Antidumping/Countervailing Duty (AD/CVD) Working Group will provide updates regarding its work and discussions on importer compliance with AD/CVD requirements. The Intellectual Property Rights (IPR) Process Modernization Working Group will report on and anticipates providing proposed recommendations for the committee's consideration relating to, the development of a portal on the CBP IPR web page and other enhancements in communications between CBP, rights holders, and the trade community regarding enforcement actions. The Bond Working Group will report on the ongoing discussions and status updates for eBond requirements. The Forced Labor Working Group (FLWG) has been working on the implementation of recommendations and updates, as well as revisions to its statement of work. The FLWG will also provide updates and anticipates making proposed recommendations for the committee's consideration at the September public meeting.

2. The Next Generation Facilitation Subcommittee will provide updates on its working groups. There will be an update and proposed recommendations for the committee's consideration from the Automated Commercial Environment (ACE) 2.0 Working Group regarding progress on the ACE 2.0 initiative resulting from the working group's recent in-person sessions held to review the CBP ACE 2.0 Concept of Operations processes. The Customs Interagency Industry Working Group (CII) (formerly the One U.S. Government Working Group) will provide an update on the work accomplished this quarter, which includes discussions with Partner Government Agencies and an update on ACE 2.0. The Passenger Air Operations (PAO) Working Group has been focusing its discussions on CBP security seal processing and access to international aircraft and passengers, landing rights, and elimination of outdated or obsolete forms, and will provide an update on those discussions.

3. The Rapid Response Subcommittee will provide updates from the Broker Modernization Working Group and the United States-Mexico-Canada Agreement (USMCA) Chapter 7 Working Group. The Broker Modernization Working Group currently meets monthly and continues to focus on the 19 CFR part 111 final rules relating to Modernization of the Customs Broker Regulations and Continuing Education for Licensed Customs Brokers, as well as Customs Broker Licensing Exams matters. The subcommittee anticipates the Broker Modernization Working Group will provide one proposed recommendation for the committee's consideration. The USMCA Chapter 7 Working Group meets bi-weekly with the expectation that proposed recommendations will be developed and submitted for consideration at an upcoming COAC public meeting. The current focus of this working group is to review the Chapter 7 articles of the USMCA and identify gaps in implementation between the United States, Mexico, and Canada.

4. The Secure Trade Lanes Subcommittee will provide updates on its six active working groups: the Export Modernization Working Group, the In-Bond Working Group, the Trade Partnership and Engagement Working Group, the Pipeline Working Group, and the Cross-Border Recognition Working Group and the newly formed De Minimis Working Group. The Export Modernization Working Group has continued its work on the electronic export manifest pilot program. The In-Bond Working Group has continued its focus on the implementation of previously submitted recommendations. The Trade Partnership and Engagement Working Group has focused its work on implementing previous recommendations for Customs Trade Partnership Against Terrorism (CTPAT) Trade Compliance partners and is working to update its statement of work to include CTPAT security. The Pipeline Working Group will submit proposed recommendations for the committee's consideration that CBP develop a pilot to use Distributed Ledger Technology to enhance transparency in supply chains for pipeline-borne goods. The De Minimis Working Group held their first meeting on August 22 and the group will submit proposed recommendations for the committee's consideration. Emerging risks have necessitated changes to operational priorities. Therefore, the De Minimis Working Group met on an aggressive schedule to develop proposed recommendations for the September 20, 2023, COAC meeting. Although the Cross-Border Recognition Working Group did not meet this quarter, it remains an active working group within the subcommittee and will resume meetings next quarter.

Meeting materials will be available by September 11, 2023, at: https://www.cbp.gov/trade/stakeholder-engagement/coac/coac-public-meetings.

Felicia M. Pullam,
Executive Director, Office of Trade Relations.

[FR Doc. 2023-19644 Filed 9-11-23; 8:45 am]

BILLING CODE 9111-14-P